POSTAL SERVICE

Product Change—Priority Mail Express, Priority Mail, and USPS Ground Advantage Negotiated Service Agreements; Priority Mail and USPS Ground Advantage Negotiated Service Agreements; Priority Mail Negotiated Service Agreements

AGENCY: Postal Service.

ACTION: Notice.

SUMMARY: The Postal Service gives notice of filing a request with the Postal Regulatory Commission to add a domestic shipping services contract to the list of Negotiated Service Agreements in the Mail Classification Schedule's Competitive Products List.

DATES: Date of required notice: September 10, 2025.

FOR FURTHER INFORMATION CONTACT: Sean C. Robinson, 202-268-8405.

SUPPLEMENTARY INFORMATION: The United States Postal Service hereby gives notice that, pursuant to 39 U.S.C. 3642 and 3632(b)(3), it filed with the Postal Regulatory Commission the following requests:

Date filed with Postal Regulatory Commission | Negotiated Service Agreement Product Category and No. | MC Docket No. | K Docket No.
08/25/25 | PM 922 | MC2025-1639 | K2025-1630
08/25/25 | PM-GA 827 | MC2025-1640 | K2025-1631
08/25/25 | PM-GA 828 | MC2025-1641 | K2025-1632
08/25/25 | PM-GA 829 | MC2025-1643 | K2025-1634
08/26/25 | PME-PM-GA 1402 | MC2025-1644 | K2025-1635
08/26/25 | PM-GA 830 | MC2025-1645 | K2025-1636
08/26/25 | PM 923 | MC2025-1646 | K2025-1637
08/26/25 | PM-GA 831 | MC2025-1647 | K2025-1638
08/26/25 | PME-PM-GA 1403 | MC2025-1648 | K2025-1639
08/27/25 | PM-GA 832 | MC2025-1649 | K2025-1640
08/27/25 | PME-PM-GA 1404 | MC2025-1650 | K2025-1641
08/27/25 | PM-GA 833 | MC2025-1651 | K2025-1642
08/27/25 | PM 924 | MC2025-1652 | K2025-1643
08/28/25 | PM-GA 834 | MC2025-1653 | K2025-1644
08/28/25 | PME-PM-GA 1405 | MC2025-1654 | K2025-1645
08/28/25 | PM 925 | MC2025-1655 | K2025-1646
08/28/25 | PM-GA 835 | MC2025-1656 | K2025-1647
08/29/25 | PM-GA 836 | MC2025-1657 | K2025-1648
08/29/25 | PM-GA 837 | MC2025-1658 | K2025-1649
08/29/25 | PM-GA 838 | MC2025-1660 | K2025-1651
08/29/25 | PME-PM-GA 1406 | MC2025-1659 | K2025-1650
08/29/25 | PM-GA 839 | MC2025-1661 | K2025-1652
09/02/25 | PM-GA 840 | MC2025-1663 | K2025-1654
09/02/25 | PM-GA 841 | MC2025-1664 | K2025-1655
09/02/25 | PM-GA 842 | MC2025-1665 | K2025-1656
09/02/25 | PME-PM-GA 1407 | MC2025-1666 | K2025-1657
09/03/25 | PM-GA 843 | MC2025-1667 | K2025-1658
09/03/25 | PM-GA 844 | MC2025-1668 | K2025-1659
09/04/25 | PME-PM-GA 1408 | MC2025-1669 | K2025-1660
09/04/25 | PM 926 | MC2025-1670 | K2025-1661
09/04/25 | PME-PM-GA 1409 | MC2025-1673 | K2025-1664
09/04/25 | PM-GA 845 | MC2025-1671 | K2025-1662
09/04/25 | PM-GA 846 | MC2025-1672 | K2025-1663
09/04/25 | PM-GA 847 | MC2025-1674 | K2025-1665
09/05/25 | PME-PM-GA 1410 | MC2025-1675 | K2025-1666

Documents are available at www.prc.gov.

Sean C. Robinson,
Attorney, Corporate and Postal Business Law.

[FR Doc. 2025-17330 Filed 9-9-25; 8:45 am]

BILLING CODE 7710-12-P